DEPARTMENT OF AGRICULTURE

Forest Service

Siuslaw Resource Advisory Committee

AGENCY: Forest Service, USDA.

ACTION: Notice of meeting.

SUMMARY: The Siuslaw Resource Advisory Committee will meet in Corvallis, OR. The purpose of the meeting is to determine how to spend Title II Payments to Counties Funds. The agenda includes: Review overhead assessments, FY02 and FY03 Projects, FY04 project review and selection; and a public forum.

DATES: The meeting will be held June 5, 2003 beginning at 10 a.m.

ADDRESSES: The meeting will be held at the Florence Convention & Performing Arts Center, 715 Quince Street, Florence, OR.

FOR FURTHER INFORMATION CONTACT: Linda Stanley, Community Development Specialist, Siuslaw National Forest, 541/750-7210 or write to Forest Supervisor, Siuslaw National Forest, PO Box 1148, Corvallis, OR 97339.

SUPPLEMENTARY INFORMATION: A public input period will begin at 3:15 p.m. The meeting is expected to adjourn at 4 p.m.

Dated: May 9, 2003.
Mary Zuschlag,
Natural Resource Staff Officer.

[FR Doc. 03-12232 Filed 5-15-03; 8:45 am]

BILLING CODE 3410-11-M